DEPARTMENT OF THE INTERIOR

Bureau of Land Management

[WO-310-1310-PB-24 1A]

Extension of Approved Information Collection, OMB Control Number 1004-0132

AGENCY: Bureau of Land Management, Interior.

ACTION: Notice and request for comments.

SUMMARY: In accordance with the Paperwork Reduction Act of 1995, the Bureau of Land Management (BLM) is requesting the Office of Management and Budget (OMB) to extend an existing approval to collect certain information from entities interested in the development of geothermal steam resources on lands BLM manages. BLM uses Form 3260-2, Geothermal Drilling Permit; Form 3260-3, Geothermal Sundry Notice; Form 3260-4, Geothermal Well Completion Report; Form 3260-5, Monthly Report of Geothermal Operations; to collect this information. This information allows BLM to approve proposed operations and to ensure compliance with terms and conditions of approved operations.

DATES: You must submit comments to BLM at the address below on or before April 11, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0132” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Barbara Gamble, Fluids Minerals Group, (202) 452-0338 (Commercial or FTS). Persons who use a telecommunication device for the deaf (TDD) may call the Federal Information Relay Service (FIRS) on 1-800-877-8330, 24 hours a day, seven days a week, to contact Ms. Gamble.

SUPPLEMENTARY INFORMATION: 5 CFR 1320.12(a) requires BLM to provide a 60-day notice in the Federal Register concerning a collection of information to solicit comments on:

(a) Whether the proposed collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Geothermal Steam Act of 1970 (30 U.S.C. 1001 et seq.) authorizes the Secretary of the Interior to issue leases and prescribe regulations so that geothermal resources on certain Federal lands may be developed and used. Tribal lands under the Indian Mineral Development Act (25 U.S.C. 2101-2108) also allow geothermal leasing operations. The BLM supervises operations of the leases granted under this authority by the regulations in 43 CFR part 3260. The regulations contain information collection requirements that we need to grant the lessees permits to perform specific operations and to report the completion and progress of such work. Specifically, the regulations require operators to submit a Geothermal Drilling Permit (Form 3260-2); a Geothermal Sundry Notice (Form 3260-3); a Geothermal Well Completion Report (Form 3260-4); and a Monthly Report of Geothermal Operations (Form 3260-5).

The information the lessee of record, a designated operator, or an approved agent acting on behalf of the lessee or operator provides, allows BLM to conduct or modify operations under the terms and conditions of a Federal geothermal lease or an Indian geothermal contract. The information enables BLM to approve both geothermal explorations and modifications to existing wells.

Form 3260-2, Geothermal Drilling Permit

This is a permit to drill, redrill, deepen or plug back a well on Federal lands. It provides a basis for evaluating the proposed well's feasibility and to determine whether we should disapprove or approve the application; and, if we approve, whether any special conditions of approval are made part of the permit. Without the information, there would be no assurance that drilling and associated activities, when and if authorized, are technically and environmentally feasible and ensure proper conservation of the resources.

Form 3260-3, Geothermal Sundry Notice

We require the sundry notice for planned well work or change of plans previously approved, road site and facilities construction and miscellaneous activities related to other previously approved operations. The lessee must also file a subsequent report of the work performed. Without this information, BLM cannot adequately evaluate the feasibility and environmental impacts of the proposed activity.

Form 3260-4, Geothermal Well Completion Report

We use the well completion report to obtain information on a complete and accurate log and history, in chronological order, of all operations conducted on the well. The logs are kept by lessees as normal, routine procedures and are not imposed as an additional requirement by BLM. We use this information to facilitate future operations, protect water supplies and Federal geothermal resources, and to allow accurate appraisal of down-hole conditions related to proper management of the resource.

Form 3260-5, Monthly Report of Geothermal Operations

We use the form to obtain information for monthly production for royalty reporting and production verification from geothermal wells. BLM uses the report to monitor the technical aspects of drilling, production, and injection activities for each well. We require the information on a monthly basis because of a direct link to royalty payments due from the lessee on a monthly basis and the associated production verifications. Without this information, BLM could not adequately evaluate activity and performance of non-abandoned wells and production facilities for individual leases. This includes drilling and other well operations and engineering data for individual well production and injection. The lessee also reports any environmental monitoring conducted.

Based on our experience administering the activities described above, we estimate it takes from 1 to 10 hours per response to complete the required information, depending on which form the respondent submits. Respondents are lessees and operators of Federal geothermal leases and Indian geothermal contracts subject to BLM oversight. We estimate 760 responses per year and a total annual burden of 1,700 hours. The estimates are summarized in the table below.

Information collection (43 CFR) | Form number/title | Responses | Hours per response | Burden hours | Frequency
3264.2 | 3260-2; Geothermal Drilling Permit | 60 | 10 | 600 | Nonrecurring.
3264.2-2 | 3260-3; Geothermal Sundry Notice | 100 | 1 | 100 | On occasion.
3262.5-1; 3264.2-3 | 3260-4; Geothermal Well Completion Report | 200 40 | 2 6 | 400 240 | On occasion.
3264.2-4; 3265.2-5 | 3260-5; Monthly Report of Geothermal Operations | 360 | 1 | 360 | Monthly.
Totals |  | 760 |  | 1,700 |

BLM will summarize all responses to this notice and include them in the request for OMB approval. All comments will become a matter of public record.

Dated: February 4, 2003.
Michael H. Schwartz,
Bureau of Land Management, Information Collection Clearance Officer.

[FR Doc. 03-3259 Filed 2-7-03; 8:45 am]

BILLING CODE 4310-84-M